DEPARTMENT OF INTERIOR

Fish and Wildlife Service

Roanoke River National Wildlife Refuge

AGENCY: Fish and Wildlife Service, Interior.

ACTION: Notice of availability of the Draft Comprehensive Conservation Plan and Environmental Impact Statement for Roanoke River National Wildlife Refuge in Bertie County, North Carolina.

SUMMARY: This notice announces that a Draft Comprehensive Conservation Plan and Environmental Impact Statement for the Roanoke River National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation and photography, and environmental education and interpretation.

DATES: Meetings will be held in early 2005 in Windsor and Halifax, North Carolina, to present the plan to the public. Mailings, newspaper articles, and posters will be the avenues to inform the public of the dates and times of the meetings. Individuals wishing to comment on the Draft Comprehensive Conservation Plan and Environmental Impact Statement for the Roanoke River National Wildlife Refuge should do so within 90 days following the date of this notice. Public comments were requested, considered, and incorporated throughout the planning process in numerous ways. Public outreach has included scoping meetings, a review of the biological program, an ecosystem planning team newsletter, and a Federal Register notice.

ADDRESSES: Requests for copies of the Draft Comprehensive Conservation Plan and Environmental Impact Statement should be addressed to Bob Glennon, Natural Resource Planner, Ecosystem Planning Office, U.S. Fish and Wildlife Service, 1106 West Queen Street, Edenton, N.C. 27932; Telephone 252/482-2364; Fax 252/482-3885. Comments on the draft may be submitted to the above address or via electronic mail to: bob_glennon@fws.gov. Our practice is to make comments, including names and home addresses of respondents, available for public review during regular business hours. Individual respondents may request that we withhold their home addresses from the record, which we will honor to the extent allowable by law.

SUPPLEMENTARY INFORMATION: The Service analyzed three alternatives for future management of the refuge and chose alternative 3 as the preferred alternative.

Proposed goals for the refuge include:

• Protecting, maintaining, and enhancing healthy and viable populations of indigenous migratory birds, wildlife, fish, and plants including Federal and State threatened and endangered species;

• Restoring, maintaining, and enhancing the health and biodiversity of forested wetland habitats to ensure improved ecological productivity;

• Providing the public with safe, quality wildlife-dependent recreational and educational opportunities that focus on the wildlife and habitats of the refuge and the National Wildlife Refuge System; Continuing to participate in local efforts to achieve a sustainable level of economic activity; including nature-based tourism;

• Protecting refuge resources by limiting the averse impacts of human activities and development; and

• Acquiring and managing adequate funding, human resources, facilities, equipment, and infrastructure to accomplish the other refuge goals.

Also available for review are draft compatibility determinations for recreational hunting, fishing, wildlife observation, wildlife photography, and environmental education and interpretation.

Alternatives

The proposed action is to adopt and implement a comprehensive conservation plan for the refuge that best achieves the refuge's purpose, vision, and goals; contributes to the National Wildlife Refuge System mission; addresses the significant issues and relevant mandates; and is consistent with principles of sound fish and wildlife management. The Service analyzed three alternatives for future management and chose Alternative 3 as the one to best achieve all of these elements. It advances the refuge program considerably and outlines programs that would meet the biological needs of refuge resources and the needs of the public.

Alternative 1 was a proposal to maintain the status quo; i.e., no change from current management of the refuge. The staff would not actively manage habitat or the refuge. The staff would survey populations of neotropical migratory songbirds and forest health and regeneration in bottomland hardwood forests. The refuge would allow the six priority public use activities: Hunting, fishing, wildlife observation, wildlife photography, and environmental education and interpretation. The staff would conduct environmental education and interpretation on a request basis only. The zone law enforcement officer would enforce regulations on the refuge and supervise the law enforcement officers on other nearby refuges.

Alternative 2 proposes moderate program increases. The refuge would develop a habitat management plan and manage all habitats on the refuge. The staff would survey a wide range of wildlife on the refuge. The six priority public use activities would continue to be allowed with the refuge having the capacity to increase the number of opportunities. The staff would conduct regularly scheduled environmental education and interpretation programs. The Service would build a shop and equipment storage facility.

Alternative 3 proposes substantial program increases. The refuge would develop a habitat management plan and manage all habitats on the refuge and selected easements large enough to warrant consideration. The staff would survey all wildlife on the refuge. The refuge would increase further the number of public use opportunities beyond the level proposed in Alternative 2. The Service would build a shop and equipment storage facility.

Actions Common to All Alternatives

All three alternatives share the following concepts and techniques for achieving the goals of the refuge:

• Cooperating with State and Federal agencies, non-government organizations, and Dominion Power Company to evaluate the effects of managed flows on the Roanoke River floodplain on the refuge's natural resources;

• Cooperating with the North Carolina Wildlife Resources Commission to administer a hunting program on the refuge;

• Cooperating with the Partnership for the Sounds and Roanoke River Partners to promote nature-based tourism;

• Monitoring populations of neotropical songbirds and the health of bottomland hardwood forest stands; and

• Encouraging scientific research on the refuge.

Roanoke River National Wildlife Refuge, in northeastern North Carolina, consists of 20,978 acres, of which 13,824 acres are baldcypress-water tupelo swamp and 7,154 acres are bottomland hardwood forests. These forests support a variety of wildlife species, including neotropical migratory songbirds, waterfowl, colonial nesting birds, deer, turkey, and squirrels.

The refuge hosts 20,000 visitors annually who participate in hunting, fishing, wildlife observation, wildlife photography, and environmental education and interpretation.

Authority: This notice is published under the authority of the National Wildlife Refuge System Improvement Act of 1997, Public Law 105-57.

Dated: January 19, 2005.
Cynthia K. Dohner,
Acting Regional Director.

[FR Doc. 05-6255 Filed 3-29-05; 8:45 am]

BILLING CODE 4310-55-M